DEPARTMENT OF ENERGY

Federal Energy Regulatory Commission

[Docket No. RM01-12-000]

Standard Market Design, Data and Software Standards; Notice of Conference

June 6, 2002.

The staff of the Federal Energy Regulatory Commission (Commission) previously scheduled a conference for May 22, 2002 on data and software needs in connection with the Commission's Standard Market Design (SMD) rule. This conference was postponed by Notice issued on May 7, 2002. A new date for this conference is July 18, 2002, starting at 9:30 a.m. in the Commission Meeting Room at the Federal Energy Regulatory Commission, 888 First Street, NE., in Washington, DC.

The conference is intended to discuss the data and software standards that are needed to implement SMD efficiently. The focus will be on exploring what should be standardized; whether there should be a standard data model; the potential for developing data sets to benchmark the needed software; and the need for user-friendly transparent interfaces that will help instill confidence in the process.

Software vendors will be invited to present their products the same day in the lobby area.

All interested parties are invited to attend. Further information about the structure of the conference will be provided in a subsequent notice, including the agenda and a list of participating discussants, as plans evolve.

The conference will be transcribed. Those interested in acquiring the transcript should contact Ace Reporters at 202-347-3700, or 800-336-6646. Transcripts will be placed in the public record ten days after the conference.

For additional information, please contact René Forsberg at 202-208-0425 or René Forsberg@ferc.gov.

Magalie R. Salas,
Secretary.

[FR Doc. 02-14880 Filed 6-12-02; 8:45 am]

BILLING CODE 6717-01-P